DEPARTMENT OF HOMELAND SECURITY

Office of the Secretary

[Docket No. DHS-2008-0129]

Privacy Act of 1974; United States Immigration and Customs Enforcement—010 Confidential and Other Sources of Information System of Records

AGENCY: Privacy Office; DHS.

ACTION: Notice of Privacy Act system of records.

SUMMARY: In accordance with the Privacy Act of 1974, the Department of Homeland Security is giving notice that it proposes to consolidate three legacy record systems: Treasury/CS.053 Confidential Source Identification File, Treasury/CS.058 Cooperating Individual Files, and Treasury/CS.122 Information Received File into a new Immigration and Customs Enforcement (ICE) system of records notice titled Confidential and Other Sources of Information (COSI). Categories of individuals, categories of records, and the routine uses of these legacy system of records notices have been consolidated and updated to better reflect ICE COSI record systems. Additionally, DHS is issuing a Notice of Proposed Rulemaking (NPRM) concurrent with this SORN elsewhere in the Federal Register. The exemptions for the legacy system of records notices will continue to be applicable until the final rule for this SORN has been completed. This system will be included in the Department's inventory of record systems.

DATES: Written comments must be submitted on or before January 8, 2009. This new system will be effective January 8, 2009.

ADDRESSES: You may submit comments, identified by docket number DHS-2008-0129 by one of the following methods:

• Federal e-Rulemaking Portal: http://www.regulations.gov. Follow the instructions for submitting comments.

• Fax: 1-866-466-5370.

• Mail: Hugo Teufel III, Chief Privacy Officer, Privacy Office, Department of Homeland Security, Washington, DC 20528.

• Instructions: All submissions received must include the agency name and docket number for this rulemaking. All comments received will be posted without change and may be read at http://www.regulations.gov, including any personal information provided.

• Docket: For access to the docket to read background documents or comments received, go to http://www.regulations.gov.

FOR FURTHER INFORMATION CONTACT: For general questions please contact: Lyn Rahilly, Privacy Officer, (202-732-3300), Immigration and Customs Enforcement, 500 12th Street, SW., Washington, DC 20024, e-mail: ICEPrivacy@dhs.gov. For privacy issues please contact: Hugo Teufel III (703-235-0780), Chief Privacy Officer, Privacy Office, U.S. Department of Homeland Security, Washington, DC 20528.

SUPPLEMENTARY INFORMATION:

I. Background

Pursuant to the savings clause in the Homeland Security Act of 2002, Public Law 107-296, Section 1512, 116 Stat. 2310 (November 25, 2002), the DHS and its component agency ICE have relied on preexisting Privacy Act systems of records notices for the collection and maintenance of records pertaining to information received from confidential and other sources. As a law enforcement investigatory agency, ICE collects and maintains information regarding possible violations of law from a number of sources, including confidential sources, State, local, tribal and Federal law enforcement agencies, and members of the public. As part of its efforts to streamline and consolidate its record systems, DHS is establishing a component system of records under the Privacy Act (5 U.S.C. 552a) for ICE to cover these records. This new system of records will allow ICE to collect and maintain records concerning the identities of and information received from documented confidential sources and other sources who supply information to ICE regarding possible violations of law or otherwise in support of law enforcement investigations and activities.

In accordance with the Privacy Act of 1974, DHS is giving notice that it proposes to consolidate three legacy record systems: Treasury/CS.053 Confidential Source Identification File (66 FR 52984 October 18, 2001), Treasury/CS.058 Cooperating Individual Files (66 FR 52984 October 18, 2001), and Treasury/CS.122 Information Received File (66 FR 52984 October 18, 2001), into a DHS/ICE system of records notice titled, United States Immigration and Customs Enforcement Information, and Confidential Sources. Categories of individuals, categories of records, and the routine uses of these legacy system of records notices have been consolidated and updated to better reflect the DHS/ICE Information, and Confidential Sources record systems. Additionally, DHS is issuing a Notice of Proposed Rulemaking (NPRM) concurrent with this SORN elsewhere in the Federal Register. The exemptions for the legacy system of records notices will continue to be applicable until the final rule for this SORN has been completed. This system will be included in the Department's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR Part 5.

The Privacy Act requires each agency to publish in the Federal Register a description denoting the type and character of each system of records that the agency maintains, and the routine uses that are contained in each system in order to make agency record keeping practices transparent, to notify individuals regarding the uses of their records, and to assist individuals to more easily find such files within the agency. Below is the description of the ICE Confidential and Other Sources of Information (COSI) System of Records.

In accordance with 5 U.S.C. 552a(r), DHS has provided a report of this system of records to the Office of Management and Budget (OMB) and to Congress.

System of Records: DHS/ICE-010.

System name:

Immigration and Customs Enforcement Confidential and Other Sources of Information (COSI).

Security classification:

Unclassified. Law Enforcement Sensitive (LES).

System location:

Records are maintained at the ICE Headquarters in Washington, DC, and in field offices.

Categories of individuals covered by the system:

Categories of individuals covered by this system include:

(1) Confidential Sources: Individuals who report information to ICE regarding possible violations of law or other information in support of law enforcement investigations and activities who have been documented as a confidential source. These individuals include confidential informants; Federal, State, local, tribal, territorial, or foreign government personnel or law enforcement officers; and members of the public acting in either their personal or professional capacities;

(2) Non-Confidential Sources: Individuals other than those described in (1) above, who report information to ICE regarding possible violations of law or other information in support of law enforcement investigations and activities. These individuals include Federal, State, local, tribal, territorial, or foreign government personnel or law enforcement officers; and members of the public acting in either their personal or professional capacities.

(3) Individuals reported by Confidential and Non-Confidential Sources: Individuals whose information is provided to ICE by the individuals described in (1) and (2) above. These individuals are typically persons who are alleged to have engaged in, witnessed, or otherwise been associated with suspected illegal activity.

Categories of records in the system:

Categories of records in this system may include:

For Confidential Sources:

• Individual's name (actual or assumed).

• ICE Confidential Source (identifying) number.

• Date ICE Source number assigned.

• Addresses.

• Nationality.

• Occupational information.

• Date and place of birth.

• Physical description of identifying features.

• Photograph of Source.

• Identifying numbers such as Social Security Number, driver's license number, FBI number, and passport number.

• Criminal history record.

• Copy of driver's license.

• Copy of alien registration card.

• Documentation of information received and the amount and date of any monetary payment made to the source.

For other non-confidential sources of information:

• Individual's name (actual or assumed).

• Addresses.

• Nationality.

• Occupational information.

For individuals about whom confidential and non-confidential information is provided:

• Individual's name (alleged violator, witness, interested parties, those connected with the investigation);

• Fingerprints;

• Handwriting sample;

• Aliases;

• Social Security Number;

• Nationality;

• Date of birth;

• Place of birth;

• Addresses;

• Telephone numbers;

• Emergency contact information;

• Occupation;

• Association/Organization memberships;

• Physical description of the individual;

• Photograph of the individual;

• Alien registration number;

• Copy of Alien registration card;

• Copy of Driver's license;

• Driver's license number;

• Registration number of vehicle, vessel, or aircraft;

• FBI/National Crime Information Center (NCIC) number;

• Passport number;

• ICE Investigative case number;

• Internal DHS/ICE memoranda and related materials regarding possible violations of law;

• Criminal record information;

• Financial record information;

• Documentation of information received from confidential sources, agencies and other individuals;

• The ICE office receiving the information; and

• ICE Duty Agent Log of information received, which contains some or all of the specific data listed above.

Authority for maintenance of the system:

5 U.S.C. 301; 18 U.S.C. Chapter 27; and 19 U.S.C. 1619.

Purpose(s):

The purpose of this system is to document and manage the identities of and information received from a number of sources, including confidential sources, regarding possible violations of law or other information in support of law enforcement investigations and activities conducted by ICE.

Routine uses of records maintained in the system, including categories of users and the purposes of such uses:

In addition to those disclosures generally permitted under 5 U.S.C. 552a(b) of the Privacy Act, all or a portion of the records of information contained in this system may be disclosed outside DHS as a routine use pursuant to 5 U.S.C. 552a(b)(3) as follows:

A. To the Department of Justice (including United States Attorney Offices) or other Federal agency conducting litigation or in proceedings before any court, adjudicative or administrative body when it is necessary to the litigation and one of the following is a party to the litigation or has an interest in such litigation:

1. DHS or any component thereof;

2. Any employee of DHS in his/her official capacity;

3. Any employee of DHS in his/her individual capacity where the Department of Justice or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To an appropriate Federal, State, local, tribal, foreign, or international agency, if the information is relevant and necessary to a requesting agency's decision concerning the hiring or retention of an individual, or issuance of a security clearance, license, contract, grant, or other benefit, or if the information is relevant and necessary to a DHS decision concerning the hiring or retention of an employee, the issuance of a security clearance, the reporting of an investigation of an employee, the letting of a contract, or the issuance of a license, grant or other benefit and disclosure is appropriate to the proper performance of the official duties of the person making the request.

I. To a court, magistrate, or administrative tribunal in the course of presenting evidence, including disclosures to opposing counsel or witnesses in the course of civil discovery, litigation, or settlement negotiations or in connection with criminal law proceedings or in response to a subpoena from a court of competent jurisdiction.

J. To third parties during the course of a law enforcement investigation to the extent necessary to obtain information pertinent to the investigation, provided disclosure is appropriate to the proper performance of the official duties of the officer making the disclosure.

K. To Federal and foreign government intelligence or counterterrorism agencies or components where DHS becomes aware of an indication of a threat or potential threat to national or international security, or where such use is to assist in anti-terrorism efforts and disclosure is appropriate to the proper performance of the official duties of the person making the disclosure.

L. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Records for confidential sources are retrieved by ICE their numerical identifier or the associated ICE investigative case number. Other source records are retrieved by ICE investigative case number, individual's name or alias (source, subject or other person connected with the investigation), the ICE field office which received the information, and the date the information was received.

Safeguards:

Records in this system are safeguarded in accordance with applicable rules and policies, including all applicable DHS automated system security access policies. Strict controls have been imposed to minimize the risk of compromising the information that is being stored. Access to the computer system containing the records in this system is limited to those individuals who have a need to know the information for the performance of their official duties and who have appropriate clearances or permissions.

Retention and disposal:

Records are maintained until the end of the fiscal year in which the related investigative file is closed. The records are then transferred to the Federal Records Center five (5) years after the end of that fiscal year. The records are then destroyed 50 years after the end of the fiscal year in which the related investigative file is closed. Disposal of paper files occurs by burning or shredding; electronic data is disposed of using methods approved by the DHS Chief Information Security Officer.

System Manager and address:

Deputy Assistant Director, Investigative Services Division, Office of Investigations, ICE Headquarters, Potomac Center North, 500 12th St., SW., Washington, DC 20024.

Notification procedure:

Individuals seeking notification of and access to any record contained in this system of records, or seeking to contest its content, may submit a request in writing to the component's FOIA Officer, whose contact information can be found at http://www.dhs.gov/foia under “contacts.” If an individual believes more than one component maintains Privacy Act records concerning him or her the individual may submit the request to the Chief Privacy Officer, Department of Homeland Security, 245 Murray Drive, SW., Building 410, STOP-0550, Washington, DC 20528.

When seeking records about yourself from this system of records or any other Departmental system of records your request must conform with the Privacy Act regulations set forth in 6 CFR Part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Identify which component(s) of the Department you believe may have the information about you,

• Specify when you believe the records would have been created,

• Provide any other information that will help the FOIA staff determine which DHS component agency may have responsive records,

• If your request is seeking records pertaining to another living individual, you must include a statement from that individual certifying his/her agreement for you to access his/her records.

Without this bulleted information the component(s) will not be able to conduct an effective search, and your request may be denied due to lack of specificity or lack of compliance with applicable regulations.

Record access procedures:

See “Notification procedure” above.

Contesting record procedures:

See “Notification procedure” above.

Record source categories:

Other Federal, State, local, and tribal law enforcement agencies, confidential sources, any other sources of information including members of the public.

Exemptions claimed for the system:

Pursuant to exemption 5 U.S.C. 552a(j)(2) of the Privacy Act, portions of this system are exempt from 5 U.S.C. 552a(c)(3) and (4); (d); (e)(1), (e)(2), (e)(3), (e)(4)(G), (e)(4)(H), (e)(5) and (e)(8); (f), and (g). Pursuant to 5 U.S.C. 552a(k)(2), this system is exempt from the following provisions of the Privacy Act, subject to the limitations set forth in those subsections: 5 U.S.C. 552a(c)(3), (d), (e)(1), (e)(4)(G), (e)(4)(H), and (f). In addition, to the extent a record contains information from other exempt systems of records, ICE will rely on the exemptions claimed for those systems.

Dated: November 28, 2008.
Hugo Teufel III,
Chief Privacy Officer, Department of Homeland Security.

[FR Doc. E8-29054 Filed 12-8-08; 8:45 am]

BILLING CODE 4410-10-P